DEPARTMENT OF EDUCATION

[CFDA No.: 84.290U]

Bilingual Education: Comprehensive School Grants; Notice Inviting A Applications for New Awards for Fiscal Year (FY) 2001

Note to Applicants

This notice is a complete application package. Together with the statute authorizing the program and the Education Department General Administrative Regulations (EDGAR), this notice contains all of the information, application forms, and instructions needed to apply for an award under this program. The statutory authorization for this program, and the application requirements that apply to this competition, are contained in sections 7114 and 7116 of the Elementary and Secondary Education Act of 1965, as amended by the Improving America's Schools Act of 1994 (Pub. L. 103-382, enacted October 20, 1994 (the Act) (20 U.S.C. 7424 and 7426)).

Purpose of Program

This program provides grants to implement schoolwide bilingual education programs (including dual language education programs) or schoolwide special alternative instruction programs for reforming, restructuring, and upgrading all relevant programs and operations, within an individual school, that serve all or virtually all limited English proficient (LEP) children and youth in one or more schools with significant concentrations of these children and youth.

SUPPLEMENTARY INFORMATION:

“Proficiency in English and one other language is something that we need to encourage among all young people. That is why I am delighted to see and highlight the growth and promise of so many dual-language bilingual programs across the country. They are challenging young people with high standards, high expectations, and curriculum in two languages. They are the wave of the future. * * * That is why I am challenging our nation to increase the number of dual-language schools to at least 1,000 over the next five years, and with strong federal, state and local support we can have many more. * * * Our nation can only grow stronger if all our children grow up learning two languages * * * Our global economy demands it; our children deserve it.”

(From Excelencia Para Todos—Excellence for All: The Progress of Hispanic Education and the Challenges of a New Century. Remarks by U.S. Secretary of Education Richard W. Riley at Bell Multicultural High School, Washington, D.C., March 15, 2000.)

Strong language skills are becoming increasingly important at the outset of the twenty-first century as computers and the Internet facilitate and expand communication. Individuals who are proficient in multiple languages will be able to benefit the most from these new technologies that give access to information in all the languages of the world.

The new age of information highlights the importance of assisting all students to achieve competence in more than one language. Research has shown that dual language education programs are a logical and effective way to help LEP students develop their primary language skills and become proficient in English and to help native English speakers develop their English skills and become proficient in a second language.

Research has also shown that dual language education programs, in addition to fostering bilingual proficiency, provide cognitive, socio-cultural, and economic benefits. Biliterate students tend to perform better than monolingual students on tasks that call for pattern recognition and problem solving. Knowing other languages facilitates greater intercultural understanding and appreciation. Individuals with bilingual proficiency enhance their job opportunities and their community's economic competitiveness in the global marketplace.

Underscoring the importance of helping all students develop proficiency both in English and in another language, the Secretary in his remarks cited above has challenged the Nation to increase the number of schools providing dual language education programs to at least 1,000 over the next five years. Accordingly, this notice invites applications that aim to implement high-quality dual language education projects. Applicants should refer to the appendix of this notice for nonregulatory guidance on commonly asked questions about dual language education.

Only applications that meet the absolute priority for dual language education projects, as specified in this notice, will be considered for funding. Other notices will be published later inviting other types of applications for new FY 2001 awards under the Comprehensive School Grants Program and other programs, including the Foreign Language Assistance Program.

Eligible Applicants: (a) One or more local educational agencies (LEAs); or (b) one or more LEAs in collaboration with an institution of higher education, community-based organizations, other LEAs, or a State educational agency.

Deadline for Transmittal of Applications: October 20, 2000.

Deadline for Intergovernmental Review: December 19, 2000.

Available Funds: $12.5 million.

The Administration has requested $25 million for new grants under this program for FY 2001. This amount includes funds for both the dual language education awards specified in this notice and other Comprehensive School awards that will be specified in a later notice. The actual level of funding, if any, depends on final congressional action.

Estimated Range of Awards: $200,000-$300,000.

Estimated Average Size of Awards: $250,000.

Estimated Number of Awards: 50.

Note: The Department is not bound by any estimates in this notice.

Project Period: Up to 60 months.

Page Limit: The application narrative (Part III of the application) is where you, the applicant, address the selection criteria reviewers use to evaluate your application. You must limit the application narrative to the equivalent of no more than 50 pages, using the following standards:

• A page is 8.5″ × 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including the budget justification and the cost itemization; Part IV, the assurances and certifications; or the table of contents, the one-page abstract, the resumes, the bibliography, or the letters of support. However, you must include all of the application narrative in Part III.

If, to meet the page limit, you use more than one side of the page, you use a larger page, or you use a print size, spacing, or margins smaller than the standards in this notice, we will reject your application.

Applicable Regulations: (a) The Education Department General Administrative Regulations (EDGAR) in 34 CFR parts 74, 75, 77, 79, 80, 81, 82, 85, 86, 97, 98, and 99. (b) The regulations in 34 CFR part 299.

Description of Program

Funds under this program are to be used to reform, restructure, and upgrade all relevant operations and programs, within a school, that serve LEP children and youth. Before carrying out a project assisted under this program, a grantee will plan, train personnel, develop curriculum, and acquire or develop materials. In addition, grantees are authorized, under this program, to improve the education of LEP children and youth and their families by implementing family education programs, improving the instructional program for LEP children, compensating personnel who have been trained—or are being trained—to serve LEP children and youth, providing tutorials and academic or career counseling for LEP children and youth, and providing intensified instruction.

Priorities

Absolute Priority 1—Dual Language Education

Under 34 CFR 75.105(c)(3) and section 7116(i)(1) of the Act the Secretary gives an absolute preference to applications that meet the following priority. The Secretary funds under this competition only applications that meet this absolute priority:

Projects that provide for the development of bilingual proficiency both in English and in another language for all participating students.

Absolute Priority 2—Percentage of LEP Student Enrollment

The priority in the notice of final priority for this program, as published in the Federal Register on October 30, 1995 (60 FR 55245), applies to this competition.

Under 34 CFR 75.105(c)(3) and section 7114(a) of the Act, the Secretary gives an absolute preference to applications that meet the following priority. The Secretary funds under this competition only applications that meet this absolute priority:

Projects that serve only schools in which the number of LEP students, in each school served, equals at least 25 percent of the total student enrollment.

Competitive Priority

Within the absolute priorities specified in this notice, the Secretary under 34 CFR 75.105(c)(2)(ii) and 34 CFR 299.3(b) gives preference to applications that meet the following competitive priority. An application that meets this competitive priority is selected by the Secretary over applications of comparable merit that do not meet the priority:

Projects that will contribute to systemic educational reform in an Empowerment Zone, including a Supplemental Empowerment Zone, or an Enterprise Community designated by the United States Department of Housing and Urban Development or the United States Department of Agriculture, and are made an integral part of the Zone's or Community's comprehensive community revitalization strategies.

A list of areas that have been designated as Empowerment Zones and Enterprise Communities is provided at the end of this notice.

Invitational Priority

Within the absolute priorities specified in this notice, the Secretary is particularly interested in applications that meet the following invitational priority. However, under 34 CFR 75.105(c)(1) an application that meets this invitational priority does not receive competitive or absolute preference over other applications:

Applicants that consider the U.S. Department of Education Professional Development Principles in planning and designing a Comprehensive School Grant project.

Those principles call for educator professional development that focuses on teachers as central to student learning, yet includes all other members of the school community; focuses on individual, collegial, and organizational improvement; respects and nurtures the intellectual and leadership capacity of teachers, principals, and others in the school community; reflects best available research and practice in teaching, learning, and leadership; enables teachers to develop further expertise in subject content, teaching strategies, uses of technologies, and other essential elements in teaching to high standards; promotes continuous inquiry and improvement embedded in the daily life of schools; is planned collaboratively by those who will participate in and facilitate that development; requires substantial time and other resources; is driven by a coherent long-term plan; is evaluated ultimately on the basis of its impact on teacher effectiveness and student learning; and uses this assessment to guide subsequent professional development efforts.

Selection Criteria

(a)(1) The Secretary uses the following selection criteria in 34 CFR 75.210 and sections 7114, 7116, and 7123 of the Act to evaluate applications for new grants under this competition.

(2) The maximum score for all of these criteria is 100 points.

(3) The maximum score for each criterion is indicated in parentheses.

(b) The criteria—(1) Meeting the purposes of the authorizing statute. (15 points) The Secretary reviews each application to determine how well the proposed project will implement schoolwide bilingual education programs for reforming, restructuring, and upgrading all relevant programs and operations, within an individual school, that serve all (or virtually all) children and youth of limited English proficiency in schools with significant concentrations of those children and youth.

(Authority: 20 U.S.C. 7424(a))

(2) Need for the project. (10 points) The Secretary considers the need for the proposed project. In determining the need for the proposed project, the Secretary considers the following factors:

(i) The number of children and youth of limited English proficiency in the school or school district to be served, and

(ii) The characteristics of those children and youth, such as—

(A) Language spoken;

(B) Dropout rates;

(C) Proficiency in English and the native language;

(D) Academic standing in relation to the English proficient peers of those children and youth; and

(E) If applicable, the recency of immigration.

(Authority: 20 U.S.C. 7426(g)(1)(A))

(3) Quality of the project design. (15 points) The Secretary considers the quality of the design of the proposed project. In determining the quality of the design of the proposed project, the Secretary considers the following factors:

(i) The extent to which the goals, objectives, and outcomes to be achieved by the proposed project are clearly specified and measurable.

(ii) The extent to which the design of the proposed project is appropriate to, and will successfully address, the needs of the target population or other identified needs.

(iii) The extent to which the proposed project is part of a comprehensive effort to improve teaching and learning and support rigorous academic standards for students.

(Authority: 34 CFR 75.210(c)(2)(i), (ii), and (xviii))

(4) Project activities. (15 points) The Secretary reviews each application to determine—

(i) How well the proposed project will improve the education of limited English proficient students and their families by carrying out some or all of the following authorized activities:

(A) Implementing family education programs and parent outreach and training activities designed to assist parents to become active participants in the education of their children.

(B) Improving the instructional program for limited English proficient students by identifying, acquiring, and upgrading curriculum, instructional materials, educational software, and assessment procedures, and, if appropriate, applying educational technology.

(C) Compensating personnel, including teacher aides who have been specifically trained, or are being trained, to provide services to children and youth of limited English proficiency.

(D) Providing training for personnel participating in or preparing to participate in the program that will assist that personnel in meeting State and local certification requirements and, to the extent possible, obtaining college or university credit.

(E) Providing tutorials and academic or career counseling for children and youth of limited English proficiency.

(F) Providing intensified instruction.

(ii) The degree to which the program for which assistance is sought involves the collaborative efforts of institutions of higher education, community-based organizations, and the appropriate local and State educational agency or businesses; and

(iii) How well the proposed project provides for utilization of the State and national dissemination sources for program design and in dissemination of results and products.

(Authority: 20 U.S.C. 7424(b)(3); 7426(h)(6) and (i)(4)-(5))

(5) Quality of the management plan. (10 points) The Secretary considers the quality of the management plan for the proposed project. In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(Authority: 34 CFR 75.210(g)(1) and (2)(i) and (iv))

(6) Quality of project personnel. (5 points) (i) The Secretary considers the quality of the personnel who will carry out the proposed project.

(ii) In determining the quality of project personnel, the Secretary considers the extent to which the applicant encourages applications for employment from persons who are members of groups that have traditionally been underrepresented based on race, color, national origin, gender, age, or disability.

(iii) In addition, the Secretary considers the following factors:

(A) The qualifications, including relevant training and experience, of the project director or principal investigator.

(B) The qualifications, including relevant training and experience, of key project personnel.

(Authority: 34 CFR 75.210(e)(1)-(3)(i) and (ii))

(7) Language skills of personnel. (5 points) The Secretary reviews each application to determine how well the proposed project meets the following requirements:

(i) The program will use qualified personnel, including personnel who are proficient in the language or languages used for instruction.

(ii) The applicant will employ teachers in the proposed program who, individually or in combination, are proficient in English, including written, as well as oral, communication skills.

(Authority: 20 U.S.C. 7426(g)(1)(E) and (h)(1))

(8) Adequacy of resources. (2 points) The Secretary considers the adequacy of resources for the proposed project. In determining the adequacy of resources for the proposed project, the Secretary considers the following factors:

(i) The extent to which the budget is adequate to support the proposed project.

(ii) The extent to which the costs are reasonable in relation to the objectives, design, and potential significance of the proposed project.

(Authority: 34 CFR 75.210(f)(1) and (2)(iii)-(iv))

(9) Integration of project funds. (3 points) The Secretary reviews each application to determine how well funds received under this program will be integrated with all other Federal, State, local, and private resources that may be used to serve children and youth of limited English proficiency.

(Authority: 20 U.S.C. 7426(g)(2)(A)(iii))

(10) Evaluation plan. (15 points) The Secretary reviews each application to determine how well the proposed project's evaluation will meet the following requirements:

(i) Student evaluation and assessment procedures must be valid, reliable, and fair for limited English proficient students.

(ii) The evaluation must include—

(A) How students are achieving the State student performance standards, if any, including data comparing children and youth of limited English proficiency with nonlimited English proficient children and youth with regard to school retention, academic achievement, and gains in English (and, if applicable, native language) proficiency;

(B) Program implementation indicators that provide information for informing and improving program management and effectiveness, including data on appropriateness of curriculum in relationship to grade and course requirements, appropriateness of program management, appropriateness of the program's staff professional development, and appropriateness of the language of instruction; and

(C) Program context indicators that describe the relationship of the activities funded under the grant to the overall school program and other Federal, State, or local programs serving children and youth of limited English proficiency.

(Authority: 20 U.S.C. 7426(h)(3) and 7433(c)(1)-(3))

(11) Commitment and capacity building. (5 points) The Secretary reviews each application to determine how well the proposed project meets the following requirements:

(i) The proposed project must contribute toward building the capacity of the applicant to provide a program on a regular basis, similar to that proposed for assistance, that will be of sufficient size, scope, and quality to promise significant improvement in the education of students of limited English proficiency.

(ii) The applicant will have the resources and commitment to continue the program when assistance under this program is reduced or no longer available.

(Authority: 20 U.S.C. 7426(h)(5))

Intergovernmental Review of Federal Programs

This program is subject to the requirements of Executive Order 12372 (Intergovernmental Review of Federal Programs) and the regulations in 34 CFR part 79.

One of the objectives of the Executive order is to foster an intergovernmental partnership and a strengthened federalism. The Executive order relies on processed developed by State and local governments for coordination and review of proposed Federal financial assistance.

If you are an applicant, you must contact the appropriate State Single Point of Contact (SPOC) to find out about, and to comply with, the State's process under Executive order 12372. If you propose to perform activities in more than one State, you should immediately contact the SPOC for each of those States and follow the procedure established in each State under the Executive order. If you want to know the name and address of any SPOC, see the list in the Appendix to this application notice; or you may view the latest official SPOC list on the Web site of the Office of Management and Budget at the following address: http://www.whitehouse.gov/omb/grants

In States that have not established a process or chosen a program for review, State, areawide, regional, and local entities may submit comments directly to the Department.

Any State Process Recommendation and other comments submitted by a SPOC and any comments from State, areawide, regional, and local entitles must be mailed or hand-delivered by the date indicated in this application notice to the following address: The Secretary, E.O. 12372—CFDA# 84.290U, U.S. Department of Education, 400 Maryland Avenue, SW., room, 7E200, Washington, DC 20202-0125.

We will determine proof of mailing under 34 CFR 74.102 (Deadline date for applications). Recommendations or comments may be hand delivered until 4:30 p.m. (Washington, DC time) on the date indicated in this notice.

Please note that the above address is not the same address as the one to which an applicant submits its completed application. Do not send applications to the above address.

Instructions for Transmittal of Applications

(a) If an applicant wants to apply for a grant, the applicant must—

(1) Mail the original and two copies of the application on or before the deadline date to: U.S. Department of Education, Application Control Center, Attention: CFDA# 84.290U, Washington, DC 20202-4725; or

(2) Hand-deliver the original and two copies of the application by 4:30 p.m. (Eastern time) on or before the deadline date to: U.S. Department of Education, Application Control Center, Attention: CFDA# 84.290U, Room 3633, Regional Office Building #3, 7th and D Streets, SW., Washington, DC.

(b) An applicant must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

(c) If an application is mailed through the U.S. Postal Service, the Secretary does not accept either of the following as proof of mailing:

(1) A private metered postmark.

(2) A mail receipt that is not dated by the U.S. Postal Service.

Note: (1) The U.S. Postal Service does not uniformly provide a dated postmark. Before relying on this method, an applicant should check with its local post office.

(2) The Application Control Center will mail a Grant Application Receipt Acknowledgment to each applicant. If an applicant fails to receive the notification of application receipt within 15 days from the date of mailing the application, the applicant should call the U.S. Department of Education Application Control Center at (202) 708-9495.

(3) The applicant must indicate on the envelope and—if not provided by the Department—in Item 3 of the Application for Federal Education Assistance (ED 424) the CFDA number and suffix letter of the competition under which the application is being submitted.

Application Instructions and Forms

The appendix to this notice contains the following forms and instructions, including a statement regarding estimated public reporting burden, a notice to applicants regarding compliance with section 427 of the General Education Provisions Act (GEPA), a checklist for applicants, and various assurances, certifications, and required documentation:

a. Estimated Burden Statement.

b. Application Instructions.

c. Nonregulatory Guidance: Questions and Answers

d. Checklist for Applicants.

e. List of Empowerment Zones and Enterprise Communities.

f. Application for Federal Education Assistance (ED 424) and Instructions.

g. Group Application Certification.

h. Budget Information—Non-Construction Programs (ED 524) and Instructions.

i. Student Data.

j. Project Documentation.

k. Program Assurances.

l. Assurances—Non-Construction Programs (Standard Form 424B) and Instructions.

m. Certifications Regarding Lobbying; Debarment, Suspension and Other Responsibility Matters; and Drug-Free Workplace Requirements (ED 80-0013) and Instructions.

n. Certification Regarding Debarment, Suspension, Ineligibility and Voluntary Exclusion—Lower Tier Covered Transactions (ED 80-0014) and Instructions.

o. Disclosure of Lobbying Activities (Standard Form LLL) and Instructions.

p. Notice to All Applicants (GEPA Requirement) and Instructions (OMB No. 1801-0004).

An applicant may submit information on a photostatic copy of the application forms, assurances, and certifications. However, one copy of the application forms, assurances, and certifications must have an original signature.

All applicants must submit ONE original signed application, including ink signatures on all forms and assurances, and TWO copies of the application. Please mark each application as original or copy. No grant may be awarded unless a complete application has been received.

FOR FURTHER INFORMATION CONTACT: Lorena Dickerson or Margarita Ackley, U.S. Department of Education, 400 Maryland Avenue, SW., Switzer Building, Room 5605, Washington, DC 20202-6510. Telephone: Lorena Dickerson (202) 205-9044; Margarita Ackley (202) 205-0506. E-mail address: Lorena_Dickerson@ed.gov; Margarita_Ackley@ed.gov.

Individuals who use a telecommunications device for the deaf (TDD) may call the Federal Information Relay Service (FIRS) at 1-800-877-8339

Individuals with disabilities may obtain this notice in an alternate format (e.g., Braille, large print, audiotape, or computer diskette) on request to the contact person listed above. Please note, however, that the Department is not able to reproduce in an alternate format the standard forms included in the notice.

Electronic Access To This Document

You may view this document, as well as all other Department of Education documents published in the Federal Register, in text or Adobe Portable Document Format (PDF) on the Internet at either of the following sites:

http://ocfo.ed.gov/fedreg.htm

http://www.ed.gov/news.html

To use the PDF you must have Adobe Acrobat Reader, which is available free at either of the previous sites. If you have questions about using the PDF, call the U.S. Government Printing Office (GPO), toll free, at 1-888-293-6498 or in the Washington, DC area at (202) 512-1530.

Note: The official version of this document is the document published in the Federal Register. Free Internet access to the official edition of the Federal Register and the Code of Federal Regulations is available at GPO access at:

http://www.access.gpo.gov/nara/index.html

Program Authority: 20 U.S.C. 7424.

Dated: August 25, 2000.
Art Love,
Acting Director, Office of Bilingual Education and Minority Languages Affairs.

Appendix—Estimated Burden Statement

According to the Paperwork Reduction Act of 1995, no persons are required to respond to a collection of information unless it displays a valid OMB control number. The valid OMB control number for this information collection is OMB No. 1885-0535 (Exp. 12/31/2001). The time required to complete this information collection is estimated to average 120 hours per response, including the time to review instructions, search existing data resources, gather the data needed, and complete and review the information collection. If you have any comments concerning the accuracy of the time estimate or suggestions for improving this form, please write to: U.S. Department of Education, Washington, DC 20202-4651.

If you have comments or concerns regarding the status of your individual submission of this form, write directly to: Office of Bilingual Education and Minority Languages Affairs, U.S. Department of Education, 400 Maryland Avenue, SW., Room 5605, Switzer Building, Washington, D.C. 20202-6510.

Application Instructions

Abstract

The narrative section should be preceded by a one-page abstract that includes a short description of the population to be served by the project, project objectives, and planned project activities.

Selection Criteria

The narrative should address fully all aspects of the selection criteria in the order listed and should give detailed information regarding each criterion. Do not simply paraphrase the criteria. Do not include resumes or curriculum vitae for project personnel; provide position descriptions instead. Do not include bibliographies, letters of support, or appendices in your application.

Empowerment Zone/Enterprise Community Priority

Applicants that wish to be considered under the competitive priority for Empowerment Zones and Enterprise Communities, as specified in a previous section of this notice, should identify in Section D of the Project Documentation Form the applicable Empowerment Zone or Enterprise Community. The application narrative should describe the extent to which the proposed project will contribute to systemic educational reform in the particular Empowerment Zone or Enterprise Community and be an integral part of the Zone's or Community's comprehensive revitalization strategies. A list of areas that have been designated as Empowerment Zones and Enterprise Communities is provided at the end of this notice.

Table of Contents

The application should include a table of contents listing the various parts of the narrative in the order of the selection criteria. The table should include the page numbers where the parts of the narrative are found.

Budget

A separate budget summary and cost itemization must be provided on the Budget Information Form (ED 524) and in the itemized budget for each project year. Budget line items should be directly related to the activities proposed to achieve the goals and objectives of the project.

Submission of Application to State Educational Agency

Section 7116(a)(2) of the authorizing statute (Elementary and Secondary Education Act of 1965, as amended by the Improving America's Schools Act of 1994, Pub. L. 103-382) requires all applicants except schools funded by the Bureau of Indian Affairs to submit a copy of their application to their State educational agency (SEA) for review and comment (20 U.S.C. 7426(a)(2)). Section 75.156 of the Education Department General Administrative Regulations (EDGAR) requires these applicants to submit their application to the SEA on or before the deadline date for submitting their application to the U.S. Department of Education. This section of EDGAR also requires applicants to attach to the application they submit to the U.S. Department of Education a copy of their letter that requests the SEA to comment on the application (34 CFR 75.156). This letter should be attached to the Project Documentation Form contained in this application package. APPLICANTS THAT DO NOT SUBMIT A COPY OF THEIR APPLICATION TO THEIR STATE EDUCATIONAL AGENCY IN ACCORDANCE WITH THESE STATUTORY AND REGULATORY REQUIREMENTS WILL NOT BE CONSIDERED FOR FUNDING.

Final Application Preparation

Use the Checklist for Applicants provided below to verify that your application is complete. Submit three copies of the application, including one copy with an original signature on each form that requires the signature of the authorized representative. Do not use elaborate bindings, notebooks, or covers. The application must be mailed or hand-delivered to the U.S. Department of Education Application Control Center (ACC). If mailed, the application must be postmarked by the deadline date.

Nonregulatory Guidance: Questions and Answers

What is “Dual Language Education”?

Dual language education programs (sometimes referred to as dual immersion, two-way immersion, or two-way bilingual education) aim to achieve bilingual proficiency and biliteracy in English and another language for all participating students. They integrate both language minority and language majority students for all or most of the day and use their native language resources to model language skills for peers. Dual language programs provide content instruction and literacy instruction to all students in the program in both languages.

Is a dual language education program the only effective means of achieving english proficiency for LEP students?

No. Dual language education is not the only way to achieve high standards for all students. It is only one of many successful methodologies that are recognized as sound for helping LEP students achieve proficiency in English and achieve to high academic standards.

What are some of the goals of a dual language program?

Successful dual language education programs have the following goals:

• Students will develop high levels of proficiency in their first language.

• Students will develop high levels of proficiency in a second language.

• Academic performance will be at or above grade level in both languages.

• Students will demonstrate positive cross-cultural attitudes and behaviors.

How is a successful dual language education program implemented?

Findings from research indicate that effective dual language programs:

• Include a roughly equal balance of students from the target language and English backgrounds who participate in instructional activities together.

• Provide instruction in English and in the target (non-English) language so that they achieve optimal bilingual proficiency and biliteracy. A common approach among existing dual language programs is to provide approximately equal amounts of instruction in both English and in the target (non-English) language.

• Provide a minimum of four to six years of dual language instruction to all participating students and form partnerships with middle and high schools to support the students' dual language skills past their elementary experience.

• Hold all students to the same high academic standards and provide the same core academic curriculum for students in the dual language programs as in other programs.

• Incorporate characteristics of effective schools, such as qualified personnel and family-school collaboration.

What does the research show about the impacts of dual language education programs?

There are currently more than 260 dual language programs nationwide and the number is growing rapidly (Loeb, 1999). According to ongoing research on non-native English speakers in five urban districts, those students in dual immersion programs showed the most academic gains as compared to those in other programs (Collier, 1994). While these differences are less apparent in the early years, later success suggests longer-term benefits. Specifically, in six dual language schools in California, 93% to 100% of the non-native English-speaking fifth and sixth grade students were considered fluent in English (according to the Student Oral Language Observation Matrix); 75% to 100% of the native English speakers were considered fluent in Spanish by the fifth grade (Lindholm-Leary, 2000). Students in dual language programs show an increased likelihood for developing friendships without regard to race or ethnicity and both native and non-native English speakers showed more confidence in academic and personal matters than did their peers in other programs (Cazabon, Lambert, and Hall, 1993).

How long a planning period is necessary before implementing a dual language program?

In-depth planning is central to the program's effectiveness; thus, at least one year of planning is recommended before implementing a new dual language program. During this time, it is important to establish a planning team that includes parents, teachers, school and district administrators, and community representatives. Initial planning steps should include: carefully assessing the native language skills of the student population; identifying the academic needs of the LEP and English-speaking students; identifying the target language; researching dual language education literature; determining the type and scope of the program; establishing goals; parent outreach; assessing the qualifications and strengths of available teachers; assessing resources such as aides, materials, and funding; and developing an action plan, budget, and timeline.

Should a school with a transient student population (over 30%) consider implementing a dual language education instructional design? how could a high rate of transience affect the success of the program?

Recruiting and retaining sufficient numbers of language minority and language majority students is crucial if the dual language program is to be successful. Many programs require that parents make a long-term commitment of five to six years. For schools with highly transient student populations, if many students are expected to leave the program before realizing the potential benefits, the dual language approach is not recommended.

What grade levels should be considered for implementing a dual language instructional design?

Nearly all successful dual language programs start between Pre-K and first grade and continue through at least the end of elementary school.

What are the challenges for a middle or high school program that is interested in dual language education?

Findings from surveys of existing dual language programs indicate that starting a program at the secondary level is not recommended unless elementary schools with strong dual language programs will directly feed into the school. Middle and high schools face numerous implementation challenges, including the availability of qualified staff, appropriate materials in the non-English language, language distribution, costs for new materials, and student scheduling.

What is the recommended number of english speakers and target language speakers a school has to have in order to implement a successful dual language education program?

Each class is usually composed of 50% native English speakers and 50% native speakers of the target language. This composition is optimal so that there are native language models in both languages of instruction. A program in which, for example, no less than 40% and no more than 60% of the students are minority language speakers will still be feasible as a dual language education program.

Do all LEP students at a school have to be served by the dual language instructional model to be eligible for funding under the dual language education comprehensive school grants competition?

While a dual language program should be implemented in stages, at its conclusion, under a Comprehensive School grant, the program will have to “serve all (or virtually all) children and youth of limited English proficiency.” It is recommended that applicants consider starting with at least two classes at the same grade level, usually kindergarten, and continue to add one grade level per year as the program matures.

Are students from both language backgrounds in class together all day?

Students from both language backgrounds should learn together for all, or almost all, of the instructional day. In certain schools, the students may be separated for some of their language arts instruction in the first or second language, especially in the earlier grades. However, if students are separated for too much instruction, they do not have the opportunity to learn language from each other and if the students are separated for instruction over several grade levels, this tracking may lead to less challenging content for the language minority students.

Do all teachers need to be fully proficient in English and the target language in a dual language program?

Projects funded under the Bilingual Education Act are required to use personnel who are proficient in the language or languages used for instruction. In addition, the Act specifically requires that projects employ teachers who individually, or in combination, are proficient in English. Ideally, all instructional staff should be fully bilingual since an explicit goal of a dual language program is bilingualism and biliteracy for all students. The Department, however, does not read the statute as requiring that all teachers in a dual language program be fully proficient in both English and the target language. If teachers are not bilingual, instruction can be organized according to the language proficiency of the teachers for grades two and later. For grades K-1, research shows it is especially important that teachers who are providing instruction in English possess some understanding of the target language to help facilitate negotiation of meaning during instruction.

Who needs to be supportive of a dual language education program in order to help ensure its successful implementation?

Stakeholders may include district administrators, school administrators, teachers, parents, local organizations, institutions of higher education, and the broader community. Effective leadership from all parties requires an understanding of the research findings and pedagogical principles underlying dual language programs as well as a willingness to advocate for the program.

Must a program have LEP students to qualify for a Dual Language Education Comprehensive School grant under Title VII?

Yes. In order for a school to be eligible to participate in the Comprehensive School grant program at least 25% of its students must be classified as LEP. A primary purpose of projects that will be assisted under the Dual Language Education Comprehensive School Grants will be to develop the English and native language proficiency of LEP students and assist those students in mastering challenging academic content. Programs that use two languages, but do not have the number of LEP students required for a Comprehensive School grant, may be eligible for assistance under the Foreign Language Assistance Program (FLAP) grants or Program Development and Implementation (PDI) grants.

Can a dual language education program include students whose first language is neither English nor the target language?

Yes, if a school has students whose primary language is neither English nor the target language (e.g. a student whose first language is Vietnamese at a school implementing a Spanish/English dual language program), it can include that child in the dual language program so long as the student has some proficiency in English and provisions are made to ensure that the child has enough language resources to have meaningful access to the entire academic program.

What is the typical racial or ethnic composition of a dual language program?

There is no typical racial or ethnic composition of a dual language program. For example, a dual language Spanish/English program could include mostly Latino students as long as approximately half of them are LEP Spanish speakers and the other half uses English as their first language. Conversely, a Chinese/English program could include White, Latino, Asian, and Black students in its group of English language speakers.

May an LEA apply for both a regular Comprehensive School grant and a Dual Language Education Comprehensive School grant under Title VII for the same school?

Yes. However, because a regular Comprehensive School grant supports the implementation of a schoolwide strategy, an LEA cannot receive more than one Comprehensive School grant to be carried out at a specific school. (An LEA can receive more than one Comprehensive School grant as long as those grants are to be carried out at separate schools.) An applicant should choose the instructional strategy that is right for its unique student population, teachers, and community and apply for the grant that is most appropriate for the particular school in question.

What should a program do to sustain its dual language activities after the grant period is completed?

Regardless of the length of the grant cycle, from the start, program coordinators are to consider methods for building their capacity to continue the program on non-Federal funds when the grant period ends. An applicant's commitment to capacity building for program continuation is one of the basic obligations that must be met by grantees under the Bilingual Education Act and will be a significant component of the criteria used in selecting applications for funding.

Checklist for Applicants

Order of the Forms and Other Items for the Application

1. Application for Federal Education Assistance Form (ED 424).

2. Group Application Certification Form (if applicable).

3. Budget Information Form (ED 524).

4. Itemized budget for each project year.

5. Student Data Form.

6. Project Documentation Form, including:

Section A—Copy of transmittal letter to SEA (if applicable); Section B—Documentation of consultation with nonprofit private school officials (if applicable); Section C—Appropriate box checked; Section D—Empowerment Zone or Enterprise Community identified (if applicable).

7. Program Assurances Form.

8. Assurances—Non-Construction Programs Form (SF 424B).

9. Certifications Regarding Lobbying; Debarment, Suspension and Other Responsibility Matters; and Drug-Free Workplace Requirements Form (ED 80-0013).

10. Certification Regarding Debarment, Suspension, Ineligibility and Voluntary Exclusion—Lower Tier Covered Transactions Form (ED 80-0014) (if applicable).

11. Disclosure of Lobbying Activities Form (SF LLL).

12. Notice to All Applicants (GEPA Requirement) (OMB No. 1801-0004).

13. One-page abstract.

14. Table of contents.

15. Application narrative (not to exceed 50 pages).

Transmittal of the Application

1. One original and two copies of the application to the U.S. Department of Education Application Control Center.

2. One copy to the appropriate State Educational Agency (if applicable).

3. One copy to the appropriate State Single Point of Contact (if applicable).

BILLING CODE 4000-01-P

[FR Doc. 00-22264 Filed 8-31-00; 8:45 am]

BILLING CODE 4000-01-C